DEPARTMENT OF TRANSPORTATION

Federal Aviation Administration

14 CFR Part 39

[Docket No. FAA-2006-24868; Directorate Identifier 2006-NM-103-AD]

RIN 2120-AA64

Airworthiness Directives; Fokker Model F.28 Mark 0070 and 0100 Airplanes

AGENCY: Federal Aviation Administration (FAA), Department of Transportation (DOT).

ACTION: Notice of proposed rulemaking (NPRM).

SUMMARY: The FAA proposes to adopt a new airworthiness directive (AD) for all Fokker Model F.28 Mark 0070 and 0100 airplanes. This proposed AD would require modification of the wiring distribution of the alternating current bus transfer power system and the right-hand and left-hand windshield anti-icing system, as necessary. This proposed AD results from a report of electrical sparks coming out of the flight deck from a panel behind the left seat. We are proposing this AD to prevent failure of the sliding window heating element(s), due to electrical overload, which could result in smoke and fire in the cockpit.

DATES: We must receive comments on this proposed AD by June 26, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Fokker Services B.V., Technical Services Dept., P.O. Box 231, 2150 AE Nieuw-Vennep, the Netherlands, for service information identified in this proposed AD.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

We invite you to submit any relevant written data, views, or arguments regarding this proposed AD. Send your comments to an address listed in the ADDRESSES section. Include the docket number “FAA-2006-24868; Directorate Identifier 2006-NM-103-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Civil Aviation Authority—The Netherlands (CAA-NL), which is the airworthiness authority for the Netherlands, notified us that an unsafe condition may exist on all Fokker Model F.28 Mark 0070 and 0100 airplanes. The CAA-NL advises that, a few minutes after takeoff, electrical sparks came out of the flight deck from a panel behind the left seat, on a Fokker Model F.28 Mark 0070 airplane. The flightcrew also noticed a strong electrical smell, but no visible smoke. Investigation revealed that several contacts of the J 4222A/P 4222B connector were burnt, creating a conductive path between the contacts of the left-hand (LH) windshield heating system and the LH sliding window heating system. The conductive path resulted in too high of a voltage on the LH sliding window, causing the overheat of the LH sliding window heating element. Failure of the sliding window heating element(s), due to electrical overload, if not corrected, could result in smoke and fire in the cockpit.

Relevant Service Information

Fokker Services B.V. has issued Fokker Service Bulletin SBF100-30-027, dated May 9, 2005; including Manual Change Notification—Maintenance Documentation MCNM F100-098, dated May 9, 2005; and including the drawings listed in the following table. (To conform to certain Office of the Federal Register requirements for incorporating these materials by reference, the table identifies the date of the service bulletin for undated drawings.)

Drawings Included in Fokker Service Bulletin SBF100-30-027
Drawing | Sheet | Issue | Date
W41043 | 007 | H | May 9, 2005.
W41043 | 008 | H | May 9, 2005.
W41249 | 006 | F | May 9, 2005.
W41249 | 007 | F | May 9, 2005.
W41249 | 008 | F | May 9, 2005.
W41249 | 009 | G | May 9, 2005.
W41249 | 010 | G | May 9, 2005.

The service bulletin describes procedures for modifying the wiring distribution of the alternating current bus transfer power system and the right-hand and left-hand windshield anti-icing system, as necessary. Specifically, the service bulletin describes modifying the following areas:

• For Block A airplanes, in the passenger compartment ceiling through receptacle J 2953A/plug P 2953B, zone 267; in the flight compartment ceiling through receptacle J 4261A/plug P 4261B, zone 259; and in the flight compartment ceiling through receptacle J 4222A/plug P 4222B, zone 258.

• For Block B airplanes, in the electrical power control (EPC) panel 1 through receptacle J 1566A/plug P 1566B, zone 244; and in EPC panel 3 through receptacle J 1590A/plug P 1590B, zone 242.

• For Block C airplanes, in EPC panel 1 through receptacle J 1566A/plug P 1566B, zone 244.

• For Block D airplanes, in EPC panel 3 through receptacle J 1590A/plug P 1590B, zone 242.

• For Block E airplanes, in the passenger compartment ceiling through receptacle J 2953A/plug P 2953B, zone 267.

Accomplishing the actions specified in the service information is intended to adequately address the unsafe condition. The CAA-NL mandated the service information and issued Dutch airworthiness directive NL-2005-009, dated June 30, 2005, to ensure the continued airworthiness of these airplanes in the Netherlands.

FAA's Determination and Requirements of the Proposed AD

These airplane models are manufactured in the Netherlands and are type certificated for operation in the United States under the provisions of section 21.29 of the Federal Aviation Regulations (14 CFR 21.29) and the applicable bilateral airworthiness agreement. Pursuant to this bilateral airworthiness agreement, the CAA-NL has kept the FAA informed of the situation described above. We have examined the CAA-NL's findings, evaluated all pertinent information, and determined that we need to issue an AD for airplanes of this type design that are certificated for operation in the United States.

Therefore, we are proposing this AD, which would require accomplishing the actions specified in the service information described previously.

Costs of Compliance

This proposed AD would affect about 10 airplanes of U.S. registry. The proposed actions would take about 3 work hours per airplane, at an average labor rate of $80 per work hour. Based on these figures, the estimated cost of the proposed AD for U.S. operators is $2,400, or $240 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Fokker Services B.V.: Docket No. FAA-2006-24868; Directorate Identifier 2006-NM-103-AD.

Comments Due Date

(a) The FAA must receive comments on this AD action by June 26, 2006.

Affected ADs

(b) None.

Applicability

(c) This AD applies to all Fokker Model F.28 Mark 0070 and 0100 airplanes, certificated in any category.

Unsafe Condition

(d) This AD results from a report of electrical sparks coming out of the flight deck from a panel behind the left seat. We are issuing this AD to prevent failure of the sliding window heating element(s), due to electrical overload, which could result in smoke and fire in the cockpit.

Compliance

(e) You are responsible for having the actions required by this AD performed within the compliance times specified, unless the actions have already been done.

Modification of Wiring Distribution

(f) Within 36 months after the effective date of this AD, modify the wiring distribution of the alternating current bus transfer power system and the right-hand and left-hand windshield anti-icing system, by accomplishing all of the actions specified in the Accomplishment Instructions of Fokker Service Bulletin SBF100-30-027, dated May 9, 2005, as applicable; including Manual Change Notification—Maintenance Documentation MCNM F100-098, dated May 9, 2005; and including the drawings listed in Table 1 of this AD. (To conform to certain Office of the Federal Register requirements for incorporating these materials by reference, the table identifies the date of the service bulletin for undated drawings.)

Table 1.—Drawings Included in Fokker Service Bulletin SBF100-30-027
Drawing | Sheet | Issue | Date
W41043 | 007 | H | May 9, 2005.
W41043 | 008 | H | May 9, 2005.
W41249 | 006 | F | May 9, 2005.
W41249 | 007 | F | May 9, 2005.
W41249 | 008 | F | May 9, 2005.
W41249 | 009 | G | May 9, 2005.
W41249 | 010 | G | May 9, 2005.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) Dutch airworthiness directive NL-2005-009, dated June 30, 2005, also addresses the subject of this AD.

Issued in Renton, Washington, on May 17, 2006.
Kevin M. Mullin,
Acting Manager, Transport Airplane Directorate, Aircraft Certification Service.

[FR Doc. E6-8009 Filed 5-24-06; 8:45 am]

BILLING CODE 4910-13-P